DEPARTMENT OF DEFENSE

Department of the Navy

Notice of Intent To Grant Partially Exclusive Patent License; BladeBeam, Inc.

AGENCY: Department of the Navy, DoD.

ACTION: Notice.

SUMMARY: The Department of the Navy hereby gives notice of its intent to grant to BladeBeam, Inc., a revocable, nonassignable, partially exclusive license in the United States to practice the Government-Owned inventions described in U.S. Patent Application No. 13/584934—“Multiple radios per node network architecture.”

DATES: Anyone wishing to object to the grant of this license must file written objections along with supporting evidence, if any, no later than April 28, 2016.

ADDRESSES: Written objections are to be filed with the Office of Research and Technology Applications, Space and Naval Warfare Systems Center Pacific, Code 72120, 53560 Hull St, Bldg A33, Room 2531, San Diego, CA 92152-5001.

FOR FURTHER INFORMATION CONTACT: Martin Machniak, Office of Research and Technology Applications, Space and Naval Warfare Systems Center Pacific, Code 72120, 53560 Hull St, Bldg A33, Room 2308, San Diego, CA 92152-5001, telephone 619-553-6416, E-Mail: martin.machniak@navy.mil.

Authority: 35 U.S.C. 207, 37 CFR part 404.

Dated: April 7, 2016.
C. Pan,
Lieutenant, Judge Advocate General's Corps, U.S. Navy, Alternate Federal Register Liaison Officer.

[FR Doc. 2016-08471 Filed 4-12-16; 8:45 am]

BILLING CODE 3810-FF-P